POSTAL SERVICE

39 CFR Part 20

Discontinuance of Volume Discount Availability for IPA and ISAL Mailers

AGENCY: Postal Service.

ACTION: Proposed rule.

SUMMARY: This proposed rule would delete International Mail Manual (IMM) 292.212, 292.213, and 293.75, which authorize mailers who spend $2 million or more combined on International Priority Mail (IPA) and International Surface Air Lift (ISAL) in the preceding Postal Service fiscal year to receive discounted postage rates.

DATES: Comments must be received on or before August 18, 2004.

ADDRESSES: Mail or deliver written comments to the Manager, Mailing Standards, 475 L'Enfant Plaza SW., Room 3436, Washington DC 20260-3436. Copies of all written comments will be available for inspection and photocopying between 9 a.m. and 4 p.m., Monday through Friday, at Postal Service Headquarters Library, 475 L'Enfant Plaza SW., 11th Floor North, Washington DC. Comments may also be submitted via fax to 202-268-4955, ATTN: Rick Klutts.

FOR FURTHER INFORMATION CONTACT: Rick Klutts, 202-268-7268.

SUPPLEMENTARY INFORMATION: Current standards authorize postage discounts for mailers who spend $2 million or more combined on International Priority Mail (IPA) and International Surface Air Lift (ISAL) in the preceding Postal Service fiscal year. These discounts would be discontinued. This change is required due to recent USPS reviews of costs for providing these services.

These changes do not affect the standards for existing or prospective customers who participate or would like to participate in the International Customized Mail (ICM) service agreement program as defined in IMM 297.

Although the Postal Service is exempt from the advance notice requirements of the Administrative Procedures Act regarding proposed rulemaking (5 U.S.C. 553(b), (c)) by U.S.C. 410(a), the Postal Service invites public comments on the following proposed revisions to the International Mail Manual, which is incorporated by reference in the Code of Federal Regulations. See 39 CFR Part 20.1.

List of Subjects in 39 CFR Part 20

International postal service, Foreign relations.

PART 111—[AMENDED]

1. The authority citation for 39 CFR part 20 continues to read as follows:

Authority: 5 U.S.C. 552(a); 39 U.S.C. 401, 404, 407 and 408.

2. Amend the International Mail Manual as set forth below:

2 Conditions for Mailing

* * * * *

290 Commercial Services

* * * * *

292 International Priority Airmail Service

* * * * *

292.2 Postage

292.21 Rates

* * * * *

[Delete 292.212 and 292.213; renumber 292.214 through 292.217 as 292.212 through 292.215.]

* * * * *

293 International Surface Air Lift (ISAL) Service

* * * * *

293.7 Postage

* * * * *

[Delete 293.75; renumber 293.76 as 293.75.]

* * * * *

Neva R. Watson,
Attorney, Legislative.

[FR Doc. 04-17124 Filed 7-27-04; 8:45 am]

BILLING CODE 7710-12-P